NUCLEAR REGULATORY COMMISSION

[Docket Nos. 50-498 and 50-499; NRC-2012-0196]

STP Nuclear Operating Company, South Texas Project, Units 1 and 2; Application for Amendment to Facility Operating License

AGENCY: Nuclear Regulatory Commission.

ACTION: License amendment application; withdrawal.

SUMMARY: The U.S. Nuclear Regulatory Commission (the Commission or NRC) has granted the request of STP Nuclear Operating Company (the licensee) to withdraw its application dated June 2, 2011 (ADAMS Accession No. ML11161A143), as supplemented by letters dated August 1, 2011, March 8, 2012, March 22, 2012, April 3, 2012 (ADAMS Accession Nos. ML11221A230, ML12079A038, ML12089A023, and ML12101A223, respectively), and May 3, 2012,¹ for proposed amendment to Facility Operating License Nos. NPF-76 and NPF-80 for the South Texas Project (STP), Units 1 and 2, located in Matagorda County, Texas.

¹ This document contains security-related information and is not publicly available.

ADDRESSES: Please refer to Docket ID NRC-2012-0196 when contacting the NRC about the availability of information regarding this document. You may access information related to this document, which the NRC possesses and are publicly available, using any of the following methods:

• Federal Rulemaking Web Site: Go to http://www.regulations.gov and search for Docket ID NRC-2012-0196. Address questions about NRC dockets to Carol Gallagher; telephone: 301-492-3668; email: Carol.Gallagher@nrc.gov.

• NRC's Agencywide Documents Access and Management System (ADAMS): You may access publicly available documents online in the NRC Library at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced in this notice (if that document is available in ADAMS) is provided the first time that a document is referenced.

• NRC's PDR: You may examine and purchase copies of public documents at the NRC's PDR, Room O1-F21, One White Flint North, 11555 Rockville Pike, Rockville, Maryland 20852.

FOR FURTHER INFORMATION CONTACT: Balwant K. Singal, Senior Project Manager, Office of Nuclear Reactor Regulation, U.S. Nuclear Regulatory Commission, Washington, DC 20555-0001; telephone: 301-415-3016; email: Balwant.Singal@nrc.gov.

SUPPLEMENTARY INFORMATION:

The proposed amendment would have revised the facility Fire Protection Program related to the alternate shutdown capability that is documented in the Fire Hazards Analysis Report for STP, Units 1 and 2. The amendments requested approval to perform certain operator actions from the main control room (MCR) before evacuating the MCR to achieve and maintain safe shutdown in the event of a fire in the MCR.

The Commission had previously issued a Notice of Consideration of Issuance of Amendment published in the Federal Register on August 23, 2011 (76 FR 52702). However, by letter dated July 31, 2012 (ADAMS Accession No. ML12220A509), the licensee withdrew the proposed change.

For further details with respect to this action, see the application for amendment dated June 2, 2011, as supplemented by letters dated August 1, 2011, March 8, 2012, March 22, 2012, April 3, 2012, and May 3, 2012, and the licensee's letter dated July 31, 2012, which withdrew the application for license amendment.

Dated at Rockville, Maryland, this 14th day of August 2012.
For the Nuclear Regulatory Commission.
Balwant K. Singal,
Senior Project Manager, Plant Licensing Branch IV, Division of Operating Reactor Licensing, Office of Nuclear Reactor Regulation.

[FR Doc. 2012-20542 Filed 8-20-12; 8:45 am]

BILLING CODE 7590-01-P